DEPARTMENT OF HEALTH AND HUMAN SERVICES

National Institutes of Health

Center for Scientific Review; Amended Notice of Meeting

Notice is hereby given of a change in the meeting of the Pathobiology of Kidney Disease Study Section, October 7, 2010, 8 a.m. to October 7, 2010, 7 p.m., Hyatt Regency Bethesda, One Bethesda Metro Center, 7400 Wisconsin Avenue, Bethesda, MD 20814 which was published in the Federal Register on August 31, 2010, 75 FR 53317-53319.

The meeting will be two days October 6, 2010, 7 p.m. to October 7, 2010, 5 p.m. The meeting location remains the same. The meeting is closed to the public.

Dated: September 8, 2010.
Jennifer S. Spaeth,
Director, Office of Federal Advisory Committee Policy.

[FR Doc. 2010-23063 Filed 9-14-10; 8:45 am]

BILLING CODE 4140-01-P